DEPARTMENT OF TRANSPORTATION

Federal Aviation Administration

Advisory Circular (AC) 120-XX, Aging Airplane Inspections and Records Reviews

AGENCY: Federal Aviation Administration (FAA), DOT.

ACTION: Notice of availability and request for comments.

SUMMARY: This notice announces the availability of and request for comments on proposed AC 120-XX, which provides guidance pertaining to aging airplane records reviews and inspections that are accomplished to satisfy the requirements of the final rule entitled Aging Aircraft Safety which was enacted in response to a statutory requirement, the Aging Aircraft Safety Act of 1991. A previous notice of availability was published in the Federal Register in error on November 20, 2002, and should be disregarded.

DATES: Comments must be received on or before February 4, 2003.

ADDRESSES: Send all comments on the proposed AC to: Frederick Sobeck, AFS-304, Aging Airplane Program Manager, Flight Standards Service, Federal Aviation Administration, 800 Independence Ave. SW., Washington, DC 20591; telephone number: (202) 267-7355.

FOR FURTHER INFORMATION CONTACT: Frederick Sobeck, AFS-304, Aging Airplane Program Manager, Flight Standards Service, Federal Aviation Administration, 800 Independence Ave. SW., Washington, DC 20591; telephone number: (202) 267-7355.

SUPPLEMENTARY INFORMATION:

Comments Invited

A copy of the draft AC may be obtained by accessing the FAA's Web page at http://www.faa.gov/avr/arm/nprm.cfm?nav=nprm or at http://faa.gov/avr/afs/acs/ac-idx.htm. Interested parties are invited to submit comments on the proposed AC. Commenters must identify AC 120-XX, and submit comments to the address specified above. All communications received on or before the closing date for comments will be considered by the FAA before issuing the final AC.

Discussion

To address aging aircraft concerns, in October 1991, Congress enacted Title IV of Public Law 102-143, known as the Aging Aircraft Safety Act of 1991, which was subsequently codified as 49 U.S.C. 44717. The law instructed the Administrator to prescribe regulations that would ensure the continued airworthiness of aging aircraft. The law also instructed the Administrator to conduct inspections and review the maintenance and other records of each aircraft an air carrier uses to provide air transportation. These inspections and records reviews were intended to enable the Administrator to decide whether aging aircraft are in a safe condition and maintained properly for operation in air transportation. The law also required the Administrator to establish procedures to be followed for performing such inspections.

In addition to imposing obligations on the Administrator, the law stated that air carriers must demonstrate that the maintenance of their aircraft's age-sensitive parts and components has been adequate and timely, and operators must make their aircraft and aircraft records available for inspection.

Issued in Washington, DC on November 21, 2002.
Louis C. Cusimano,
Deputy Director, Flight Standards Service.

[FR Doc. 02-30109 Filed 12-5-02; 8:45 am]

BILLING CODE 4910-13-P